SECURITIES AND EXCHANGE COMMISSION

[File No. 500-1]

China Valves Technology, Inc.; Order of Suspension of Trading

September 29, 2014.

It appears to the Securities and Exchange Commission that there is a lack of current and accurate information concerning the securities of China Valves Technology, Inc. (“CVVT”) because CVVT has not filed periodic reports with the Commission from the quarter ended March 31, 2012 to the present. In addition, in a Form 8-K/A filed on February 28, 2012, CVVT disclosed that its unaudited financial statements for the quarters ended March 31, 2011 and June 30, 2011, and its audited financial statements for the year ended September 30, 2011, could no longer be relied upon. CVVT has failed to issue restated financials for those periods as of the date of this order.

The Commission is of the opinion that the public interest and the protection of investors require a suspension of trading in the securities of CVVT.

Therefore, it is ordered, pursuant to Section 12(k) of the Securities Exchange Act of 1934, that trading in the securities of CVVT is suspended for the period from 9:30 a.m. EDT, September 29, 2014, through 11:59 p.m. EDT, on October 10, 2014.

By the Commission.
Kevin M. O'Neill,
Deputy Secretary.

[FR Doc. 2014-23465 Filed 9-29-14; 4:15 pm]

BILLING CODE 8011-01-P